DEPARTMENT OF THE INTERIOR

Geological Survey

Scientific Earthquake Studies Advisory Committee

AGENCY: U.S. Geological Survey.

ACTION: Notice of meeting.

SUMMARY: Pursuant to Public Law 106-503, the Scientific Earthquake Studies Advisory Committee (SESAC) will hold its thirteenth meeting. The meeting location is the Colorado School of Mines campus at the Green Center in Golden Colorado. The Green Center is located between 15th & 16th on Arapahoe (925 16th Street). The Committee is comprised of members from academia, industry, and State government. The Committee shall advise the Director of the U.S. Geological Survey (USGS) on matters relating to the USGS's participation in the National Earthquake Hazards Reduction Program.

The Committee will provide guidance on how to move from hazard assessment into risk-based products developed with partners.

Meetings of the Scientific Earthquake Studies Advisory Committee are open to the public.

DATES: July 6, 2006, commencing at 9 a.m. and adjourning at Noon on July 7, 2006.

FOR FURTHER INFORMATION CONTACT: Dr. David Applegate, U.S. Geological Survey, MS 905, 12201 Sunrise Valley Drive, Reston, Virginia 20192. (703) 648-6714. applegate@usgs.gov.

Dated: June 6, 2006.
Frances Pierce,
Acting Associate Director for Geology.

[FR Doc. 06-5329 Filed 6-12-06; 8:45 am]

BILLING CODE 4311-AM-M